ENVIRONMENTAL PROTECTION AGENCY

40 CFR Part 180

[EPA-HQ-OPP-2008-0738; FRL-8418-6]

Alkyl Amine Polyalkoxylates; Exemption from the Requirement of a Tolerance

AGENCY: Environmental Protection Agency (EPA).

ACTION: Final rule.

SUMMARY: This regulation establishes an exemption from the requirement of a tolerance for residues of alkyl amine polyalkoxylates when used as inert ingredients in pesticide formulations applied to growing crops and animals. The Joint Inerts Task Force (JITF), Cluster Support Team Number 4 submitted a petition to EPA under the Federal Food, Drug, and Cosmetic Act (FFDCA), requesting an exemption from the requirement of a tolerance. This regulation eliminates the need to establish a maximum permissible level for residues of alkyl amine polyalkoxylates.

DATES: This regulation is effective June 17, 2009. Objections and requests for hearings must be received on or before August 17, 2009, and must be filed in accordance with the instructions provided in 40 CFR part 178 (see also Unit I.C. of the SUPPLEMENTARY INFORMATION).

ADDRESSES: EPA has established a docket for this action under docket identification (ID) number EPA-HQ-OPP-2008-0738. All documents in the docket are listed in the docket index available at http://www.regulations.gov. Although listed in the index, some information is not publicly available, e.g., Confidential Business Information (CBI) or other information whose disclosure is restricted by statute. Certain other material, such as copyrighted material, is not placed on the Internet and will be publicly available only in hard copy form. Publicly available docket materials are available in the electronic docket at http://www.regulations.gov, or, if only available in hard copy, at the OPP Regulatory Public Docket in Rm. S-4400, One Potomac Yard (South Bldg.), 2777 S. Crystal Dr., Arlington, VA. The Docket Facility is open from 8:30 a.m. to 4 p.m., Monday through Friday, excluding legal holidays. The Docket Facility telephone number is (703) 305-5805.

FOR FURTHER INFORMATION CONTACT: Kerry Leifer, Registration Division (7505P), Office of Pesticide Programs, Environmental Protection Agency, 1200 Pennsylvania Ave., NW., Washington, DC 20460-0001; telephone number: (703) 308-8811; e-mail address: leifer.kerry@epa.gov.

SUPPLEMENTARY INFORMATION:

I. General Information

A. Does this Action Apply to Me?

You may be potentially affected by this action if you are an agricultural producer, food manufacturer, or pesticide manufacturer. Potentially affected entities may include, but are not limited to those engaged in the following activities:

• Crop production (NAICS code 111).

• Animal production (NAICS code 112).

• Food manufacturing (NAICS code 311).

• Pesticide manufacturing (NAICS code 32532).

This listing is not intended to be exhaustive, but rather to provide a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How Can I Access Electronic Copies of this Document?

In addition to accessing electronically available documents at http://www.regulations.gov, you may access this Federal Register document electronically through the EPA Internet under the “Federal Register” listings at http://www.epa.gov/fedrgstr. You may also access a frequently updated electronic version of EPA's tolerance regulations at 40 CFR part 180 through the Government Printing Office's e-CFR cite at http://www.gpoaccess.gov/ecfr.

C. Can I File an Objection or Hearing Request?

Under section 408(g) of FFDCA, 21 U.S.C. 346a, any person may file an objection to any aspect of this regulation and may also request a hearing on those objections. You must file your objection or request a hearing on this regulation in accordance with the instructions provided in 40 CFR part 178. To ensure proper receipt by EPA, you must identify docket ID number EPA-HQ-OPP-2008-0738 in the subject line on the first page of your submission. All requests must be in writing, and must be mailed or delivered to the Hearing Clerk as required by 40 CFR part 178 on or before August 17, 2009.

In addition to filing an objection or hearing request with the Hearing Clerk as described in 40 CFR part 178, please submit a copy of the filing that does not contain any CBI for inclusion in the public docket that is described in ADDRESSES. Information not marked confidential pursuant to 40 CFR part 2 may be disclosed publicly by EPA without prior notice. Submit this copy, identified by docket ID number EPA-HQ-OPP-2008-0738, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

II. Background

In the Federal Register of December 3, 2008 (73 FR 73644) (FRL-8386-9), EPA issued a notice pursuant to section 408(d)(3) of FFDCA, 21 U.S.C. 346a(d)(3), announcing the filing of a pesticide petition (PP 8E7382) by The Joint Inerts Task Force (JITF), Cluster Support Team Number 4 (CST 4), c/o CropLife America, 1156 15th Street, NW., Suite 400, Washington, DC 20005, The petition requested that 40 CFR 180.920 and 40 CFR 180.930 be amended by establishing exemptions from the requirement of a tolerance for residues of the inert ingredient N,N-Bis-α-ethyl-ω-hydroxypoly(oxy-1,2-ethanediyl) C8-C18 saturated and unsaturated alkylamines; the poly(oxy-1,2-ethanediyl) content is 2-60 moles and N,N-Bis-α-ethyl-ω-hydroxypoly(oxy-1,2-ethanediyl/oxy(methyl-1,2-ethanediyl) C8-C18 saturated and unsaturated alkylamines; the poly(oxy-1,2-ethanediyl/oxy(methyl-1,2-ethanediyl) content is 2-60 moles (these substances are referred to throughout this document as alkyl amine polyalkoxylates). That notice referenced a summary of the petition prepared by JITF, CST 4, the petitioner, which is available to the public in the docket, http://www.regulations.gov. There were no comments received in response to the notice of filing.

This petition was submitted in response to a final rule of August 9, 2006, (71 FR 45415) in which the Agency revoked, under section 408(e)(1) of FFDCA, the existing exemptions from the requirement of a tolerance for residues of certain inert ingredients because of insufficient data to make the determination of safety required by FFDCA section 408(b)(2). The expiration date for the tolerance exemptions subject to revocation was August 9, 2008, which was later extended to August 9, 2009 (73 FR 45312 ) to allow for data to be submitted to support the establishment of tolerance exemptions for these inert ingredients prior to the effective date of the tolerance exemption revocation.

III. Inert Ingredient Definition

Inert ingredients are all ingredients that are not active ingredients as defined in 40 CFR 153.125 and include, but are not limited to, the following types of ingredients (except when they have a pesticidal efficacy of their own): Solvents such as alcohols and hydrocarbons; surfactants such as polyoxyethylene polymers and fatty acids; carriers such as clay and diatomaceous earth; thickeners such as carrageenan and modified cellulose; wetting, spreading, and dispersing agents; propellants in aerosol dispensers; microencapsulating agents; and emulsifiers. The term “inert” is not intended to imply nontoxicity; the ingredient may or may not be chemically active. Generally, EPA has exempted inert ingredients from the requirement of a tolerance based on the low toxicity of the individual inert ingredients.

IV. Aggregate Risk Assessment and Determination of Safety

Section 408(b)(2)(A)(i) of FFDCA allows EPA to establish an exemption from the requirement of a tolerance (the legal limit for a pesticide chemical residue in or on a food) only if EPA determines that the tolerance is “safe.” Section 408(b)(2)(A)(ii) of FFDCA defines “safe” to mean that “there is a reasonable certainty that no harm will result from aggregate exposure to the pesticide chemical residue, including all anticipated dietary exposures and all other exposures for which there is reliable information.” This includes exposure through drinking water and in residential settings, but does not include occupational exposure. Section 408(b)(2)(C) of FFDCA requires EPA to give special consideration to exposure of infants and children to the pesticide chemical residue in establishing a tolerance and to “ensure that there is a reasonable certainty that no harm will result to infants and children from aggregate exposure to the pesticide chemical residue....”

EPA performs a number of analyses to determine the risks from aggregate exposure to pesticide residues. First, EPA determines the toxicity of pesticides. Second, EPA examines exposure to the pesticide through food, drinking water, and through other exposures that occur as a result of pesticide use in residential settings.

Consistent with section 408(b)(2)(D) of FFDCA, and the factors specified in section 408(b)(2)(D) of FFDCA, EPA has reviewed the available scientific data and other relevant information in support of this action. EPA has sufficient data to assess the hazards of and to make a determination on aggregate exposure for the petitioned-for exemption from the requirement of a tolerance for residues of alkyl amine polyalkoxylates when used as inert ingredients in pesticide formulations applied to growing crops or food-producing animals. EPA's assessment of exposures and risks associated with establishing tolerances follows.

A. Toxicological Profile

EPA has evaluated the available toxicity data and considered its validity, completeness, and reliability as well as the relationship of the results of the studies to human risk. EPA has also considered available information concerning the variability of the sensitivities of major identifiable subgroups of consumers, including infants and children.

Alkyl amine polyalkoxylates are not acutely toxic by the oral and dermal routes of exposure, or via inhalation under normal use conditions. Concentrated materials are generally corrosive, eye and skin irritants and may be dermal sensitizers. There is no evidence that alkyl amine polyalkoxylates are neurotoxic, mutagenic, or clastogenic.

Following subchronic exposure to rats, some gastrointestinal irritation was observed, but no specific target organ toxicity or neurotoxicity was seen. In subchronic studies in rats and/or dogs, the most sensitive effects noted were increased mortality, clinical signs (salivation, wheezing, emesis, and/or soft feces), cataracts, cellular changes in the stomach, and liver effects characterized by enzyme induction, and pigment accumulation in Kupffer cells and bile canaliculi. There was no increased susceptibility to the offspring of rats following in utero exposure in two prenatal developmental toxicity studies. However, there is evidence of increased susceptibility in a reproductive screening study in rats.

Specific information on the studies received and the nature of the adverse effects caused by alkyl amine polyalkoxylates as well as the no-observed-adverse-effect-level (NOAEL) and the lowest-observed-adverse-effect-level (LOAEL) from the toxicity studies can be found at http://www.regulations.gov in document Alkyl Amine Polyalkoxylates (JITF CST 4 Inert Ingredients), Human Health Risk Assessment to Support Proposed Exemption from the Requirement of a Tolerance When Used as Inert Ingredients in Pesticide Formulations, at pp 10-17 in docket ID number EPA-HQ-OPP-2008-0738.

B. Toxicological Endpoints

For hazards that have a threshold below which there is no appreciable risk, a toxicological point of departure (POD) is identified as the basis for derivation of reference values for risk assessment. The POD may be defined as the highest dose at which no adverse effects are observed (the NOAEL) in the toxicology study identified as appropriate for use in risk assessment. However, if a NOAEL cannot be determined, the lowest dose at which adverse effects of concern are identified (the LOAEL) or a Benchmark Dose (BMD) approach is sometimes used for risk assessment. Uncertainty/safety factors (UFs) are used in conjunction with the POD to take into account uncertainties inherent in the extrapolation from laboratory animal data to humans and in the variations in sensitivity among members of the human population as well as other unknowns. Safety is assessed for acute and chronic dietary risks by comparing aggregate food and water exposure to the pesticide to the acute population adjusted dose (aPAD) and chronic population adjusted dose (cPAD). The aPAD and cPAD are calculated by dividing the POD by all applicable UFs. Aggregate short-, intermediate-, and chronic-term risks are evaluated by comparing food, water, and residential exposure to the POD to ensure that the margin of exposure (MOE) called for by the product of all applicable UFs is not exceeded. This latter value is referred to as the Level of Concern (LOC).

For non-threshold risks, the Agency assumes that any amount of exposure will lead to some degree of risk. Thus, the Agency estimates risk in terms of the probability of an occurrence of the adverse effect greater than that expected in a lifetime. For more information on the general principles EPA uses in risk characterization and a complete description of the risk assessment process, see http://www.epa.gov/pesticides/factsheets/riskassess.htm.

A summary of the toxicological endpoints for alkyl amine polyalkoxylates used for human risk assessment is shown in the following Table.

Table—Summary of Toxicological Doses and Endpoints for Alkyl Amine Polyalkoxylates for Use in Human Risk Assessment
Exposure/Scenario | Point of Departure and Uncertainty/Safety Factors | RfD, PAD, LOC for Risk Assessment | Study and Toxicological Effects
Acute dietary (all populations) | NOAEL = 72 milligrams/kilograms/day (mg/kg/day) UFA = 10x UFH = 10x FQPA SF = 1x | Acute RfD = 0.72 mg/kg/day aPAD = 0.72 mg/kg/day | 90-Day Oral Toxicity Study in Rats LOAEL = 216 mg/kg/day based on mortality (2 deaths after 2 exposures; gestation day (GD) 2), with a total of 6/25 deaths during GD 6-15.
Chronic dietary (all populations) | NOAEL 15 mg/kg/day UFA = 10x UFH = 10x FQPA SF = 1x | Chronic RfD = 0.15 mg/kg/day cPAD = 0.15 mg/kg/day | 90-Day Oral (Gavage) Toxicity Study in Rats LOAEL = 30 mg/kg/day based on increased mortality (2 deaths (days 36, 78)), salivation, and posterior subcapsular cataracts in males as well as wheezing, and macro- and microscopic changes in the nonglandular stomach of both sexes.
Incidental oral short-term (1 to 30 days) and intermediate-term (1 to 6 months) | NOAEL= 15 mg/kg/day UFA = 10x UFH = 10x FQPA SF = 1x | LOC for MOE = 100 | 90-Day Oral (Gavage) Toxicity Study in Rats LOAEL = 30 mg/kg/day based on increased mortality (2 deaths (days 36, 78)), salivation, and posterior subcapsular cataracts in males as well as wheezing, and macro- and microscopic changes in the nonglandular stomach of both sexes.
Dermal and Inhalation (all durations) | Oral study NOAEL = 15 mg/kg/day (dermal absorption rate = 5% (inhalation absorption rate = 100%) UFA = 10x UFH = 10x FQPA SF = 1x | LOC for MOE = 100 | 90-Day Oral (Gavage) Toxicity Study in Rats LOAEL = 30 mg/kg/day based on increased mortality (2 deaths (days 36, 78)), salivation, and posterior subcapsular cataracts in males as well as wheezing, and macro- and microscopic changes in the nonglandular stomach of both sexes.
Cancer (oral, dermal, inhalation) | Classification: No animal toxicity data available for an assessment; Based on SAR analysis, alkyl amine polyalkoxylates are not expected to be carcinogenic.
UFA = extrapolation from animal to human (interspecies). UFH = potential variation in sensitivity among members of the human population (intraspecies). RfD = reference dose.

C. Exposure Assessment

1. Dietary exposure from food and feed uses. In evaluating dietary exposure to alkyl amine polyalkoxylates, EPA considered exposure under the petitioned-for exemptions from the requirement of a tolerance. EPA assessed dietary exposures from alkyl amine polyalkoxylates in food as follows:

i. Acute and chronic exposure. In conducting the acute and chronic dietary exposure assessments, EPA used food consumption information from the United States Department of Agriculture (USDA) 1994-1996 and 1998 Nationwide Continuing Surveys of Food Intake by Individuals (CSFII). As to residue levels in food, no residue data were submitted for the alkyl amine polyalkoxylates. In the absence of specific residue data, EPA has developed an approach which uses surrogate information to derive upper bound exposure estimates for the subject inert ingredients. Upper bound exposure estimates are based on the highest tolerance for a given commodity from a list of high-use insecticides, herbicides, and fungicides. A complete description of the dietary exposure and risk assessment can be found at http://www.regulations.gov in Alkyl Amines Polyalkoxylates (Cluster 4): Acute and Chronic Aggregate (Food and Drinking Water) Dietary Exposure and Risk Assessments for the Inerts in docket ID number EPA-HQ-OPP-2008-0738.

In the assessment, the Agency assumed that the residue level of the inert ingredient would be no higher than the highest tolerance for a given commodity. Implicit in this assumption is that there would be similar rates of degradation (if any) between the active and inert ingredient and that the concentration of inert ingredient in the scenarios leading to these highest of tolerances would be no higher than the concentration of the active ingredient.

The Agency believes the assumptions used to estimate dietary exposures lead to an extremely conservative assessment of dietary risk due to a series of compounded conservatisms. First, assuming that the level of residue for an inert ingredient is equal to the level of residue for the active ingredient will overstate exposure. The concentrations of active ingredient in agricultural products is generally at least 50 percent of the product and often can be much higher. Further, pesticide products rarely have a single inert ingredient; rather, there is generally a combination of different inert ingredients used which additionally reduces the concentration of any single inert ingredient in the pesticide product relative to that of the active ingredient. In the case of alkyl amine polyalkoxylates, EPA made a specific adjustment to the dietary exposure assessment to account for the use limitations of the amount of alkyl amine polyalkoxylates that may be in formulations (no more than 25 percent in herbicides and no more than 10 percent in fungicides and insecticides) and assumed the alkyl amine polyalkoxylates to be present at the maximum limitations rather than at equal quantities with the active ingredient. This remains a very conservative assumption because surfactants are generally used at levels far below these percentages. For example, EPA examined several of the pesticide products associated with the tolerance/commodity combination which are the driver of the risk assessment and found that these products did not contain surfactants at levels greater than 2.25 percent and that none of the surfactants were alkyl amine polyalkoxylates.

Second, the conservatism of this methodology is compounded by EPA's decision to assume that, for each commodity, the active ingredient which will serve as a guide to the potential level of inert ingredient residues is the active ingredient with the highest tolerance level. This assumption overstates residue values because it would be highly unlikely, given the high number of inert ingredients, that a single inert ingredient or class of ingredients would be present at the level of the active ingredient in the highest tolerance for every commodity.

Finally, a third compounding conservatism is EPA's assumption that all foods contain the inert ingredient at the highest tolerance level. In other words, EPA assumed 100 percent of all foods are treated with the inert ingredient at the rate and manner necessary to produce the highest residue legally possible for an active ingredient. In sum, EPA chose a very conservative method for estimating what level of inert residue could be on food, then used this methodology to choose the highest possible residue that could be found on food and assumed that all food contained this residue. No consideration was given to potential degradation between harvest and consumption even though monitoring data shows that tolerance level residues are typically one to two orders of magnitude higher than actual residues in food when distributed in commerce.

Accordingly, although sufficient information to quantify actual residue levels in food is not available, the compounding of these conservative assumptions will lead to a significant exaggeration of actual exposures. EPA does not believe that this approach underestimates exposure in the absence of residue data.

ii. Cancer. The Agency used a qualitative structure activity relationship (SAR) database, DEREK11, to determine if there were structural alerts for potential carcinogenicity of both a representative alkyl amine polyalkoxylate, as well as a possible metabolite/degradate of alkyl amine polyalkoxylate that had been extensively dealkylated, with the amine group intact. No structural alerts for carcinogenicity were identified in either case. Alkyl amine polyalkoxylates are not expected to be carcinogenic. Therefore a cancer dietary exposure assessment is not necessary to assess cancer risk.

iii. Anticipated residue and percent crop treated (PCT) information. EPA did not use anticipated residue and/or PCT information in the dietary assessment for alkyl amine polyalkoxylates. Tolerance level residues and/or 100 percent CT were assumed for all food commodities.

2. Dietary exposure from drinking water. The Agency used screening level water exposure models in the dietary exposure analysis and risk assessment for alkyl amine polyalkoxylates in drinking water. These simulation models take into account data on the physical, chemical, and fate/transport characteristics of alkyl amine polyalkoxylates. Further information regarding EPA drinking water models used in pesticide exposure assessment can be found at http://www.epa.gov/oppefed1/models/water/index.htm.

A screening level drinking water analysis, based on the Pesticide Root Zone Model/Exposure Analysis Modeling System (PRZM/EXAMS) was performed to calculate the estimated drinking water concentrations (EDWCs) of alkyl amine polyalkoxylates. Modeling runs on four surrogate inert ingredients using a range of physical chemical properties that would bracket those of the alkyl amine polyalkoxylates were conducted. Modeled acute drinking water values ranged from 0.001 parts per billion (ppb) to 41 ppb. Modeled chronic drinking water values ranged from 0.0002 ppb to 19 ppb. Further details of this drinking water analysis can be found at http://www.regulations.gov in document Alkyl Amine Polyalkoxylates (JITF CST 4 Inert Ingredients), Human Health Risk Assessment to Support Proposed Exemption from the Requirement of a Tolerance When Used as Inert Ingredients in Pesticide Formulations, at pp 18 and 70-72 in docket ID number EPA-HQ-OPP-2008-0738.

For the purpose of the screening level dietary risk assessment to support this request for an exemption from the requirement of a tolerance for alkyl amine polyalkoxylates, a conservative drinking water concentration value of 100 ppb based on screening level modeling was used to assess the contribution to drinking water for both the acute and chronic dietary risk assessments. These values were directly entered into the dietary exposure model.

3. From non-dietary exposure. The term “residential exposure” is used in this document to refer to non-occupational, non-dietary exposure (e.g., for lawn and garden pest control, indoor pest control, termiticides, and flea and tick control on pets). Alkyl amine polyalkoxylates are not used as inert ingredients in pesticide products that are registered for specific uses that could result in indoor residential exposures but may have uses as inert ingredients in pesticide products that may result in outdoor residential exposures.

A screening level residential exposure and risk assessment was completed for products containing alkyl amine polyalkoxylates as inert ingredients. In this assessment, representative scenarios, based on end-use product application methods and labeled application rates, were selected. For each of the use scenarios, the Agency assessed residential handler (applicator) inhalation and dermal exposure for outdoor scenarios with high exposure potential (i.e., exposure scenarios with high end unit exposure values) to serve as a screening assessment for all potential residential pesticides containing alkyl amine polyalkoxylates. Similarly, residential postapplication dermal and oral exposure assessments were also performed utilizing high end outdoor exposure scenarios. Further details of this residential exposure and risk analysis can be found at http://www.regulations.gov in document Alkyl Amine Polyalkoxylates (JITF CST 4 Inert Ingredients), Human Health Risk Assessment to Support Proposed Exemption from the Requirement of a Tolerance When Used as Inert Ingredients in Pesticide Formulations, at pp 22-26 and 74-80 in docket ID number EPA-HQ-OPP-2008-0738.

4. Cumulative effects from substances with a common mechanism of toxicity. Section 408(b)(2)(D)(v) of FFDCA requires that, when considering whether to establish, modify, or revoke a tolerance, the Agency consider “available information” concerning the cumulative effects of a particular pesticide's residues and “other substances that have a common mechanism of toxicity.”

EPA has not found alkyl amine polyalkoxylates to share a common mechanism of toxicity with any other substances, and alkyl amine polyalkoxylates do not appear to produce a toxic metabolite produced by other substances. For the purposes of this tolerance action, therefore, EPA has assumed that alkyl amine polyalkoxylates do not have a common mechanism of toxicity with other substances. For information regarding EPA's efforts to determine which chemicals have a common mechanism of toxicity and to evaluate the cumulative effects of such chemicals, see EPA's website at http://www.epa.gov/pesticides/cumulative.

D. Safety Factor for Infants and Children

1. In general. Section 408(b)(2)(c) of FFDCA provides that EPA shall apply an additional tenfold (10X) margin of safety for infants and children in the case of threshold effects to account for prenatal and postnatal toxicity and the completeness of the database on toxicity and exposure unless EPA determines based on reliable data that a different margin of safety will be safe for infants and children. This additional margin of safety is commonly referred to as the FQPA safety factor (SF). In applying this provision, EPA either retains the default value of 10X, or uses a different additional safety factor when reliable data available to EPA support the choice of a different factor.

2. Prenatal and postnatal sensitivity. The toxicity database consists of a rat developmental toxicity study on an alkyl amine polyalkoxylate and a rat reproduction study on two different alkyl amine polyalkoxylates which covers the range of carbon chain lengths and polyalkoxylation within the group. No quantitative or qualitative increased susceptibility was demonstrated in the fetuses in the prenatal developmental toxicity study in rats following in utero exposure. There was some evidence of increased susceptibility in the rat reproductive toxicity study (where the offspring NOAEL of 300 ppm (12-14 mg/kg/day) was lower than the parental NOAEL of 1,000 ppm (41-48.6 mg/kg/day). There are no neurotoxicity studies available for the alkyl amine polyalkoxylates; however, there is no indication of neurotoxicity in the available toxicity studies.

Based on the evidence of increased susceptibility in the offspring relative to the parents in the rat reproduction study a Degree of Concern analysis was performed. The purpose of the Degree of Concern analysis was (1) to determine the level of concern for the effects observed when considered in the context of all available toxicity data; and (2) identify any residual uncertainties after establishing toxicity endpoints and traditional uncertainty factors to be used in the risk assessment.

There was no increased susceptibility to the offspring of rats following in utero exposure to alkyl amine polyalkoxylates in the prenatal development toxicity study. However, there was evidence of increased susceptibility in the reproduction toxicity studies in rats. Offspring effects include litter loss, increased mean number of unaccounted-for implantation sites and decreased mean number of pups born, live litter size and postnatal survival from birth to LD 4 (F1) at 1,000 ppm for one alkyl amine polyalkoxylate homologue (41-48.6 mg/kg/day) and at 2,000 ppm (134-148 mg/kg/day) for a second homologue. However, the rat reproduction study identified a NOAEL of 300 ppm for both homologues (12-14 mg/kg/day and 23-26 mg/kg/day, respectively) for offspring effects, and the selected point of departure for the dietary, dermal and inhalation risk assessments is protective of these offspring effects, thus there are no residual concerns.

3. Conclusion. EPA has determined that reliable data show the safety of infants and children would be adequately protected if the FQPA SF were reduced to 1X. That decision is based on the following findings:

i. The toxicity database for alkyl amine polyalkoxylates is considered adequate for assessing the risks to infants and children (the available studies are described in Unit IV.4.D.2. above).

ii. There is no indication that alkyl amine polyalkoxylates are neurotoxic chemicals and thus there is no need for a developmental neurotoxicity study or additional UFs to account for neurotoxicity.

iii. There is no evidence that alkyl amine polyalkoxylates result in increased susceptibility in in utero rats in prenatal developmental studies. Increased susceptibility of young rats in the 2-generation reproduction study was seen, however the selected point of departure for the dietary, dermal and inhalation risk assessments is protective of these offspring effects, thus there are no residual concerns.

iv. No chronic studies on alkyl amine polyalkoxylates are available, however, there is no need to add additional UFs to account for an incomplete toxicity database because the adverse effects observed in the available toxicity studies do not seem to increase in severity over time (4 weeks to 13 weeks). Based on the lack of progression of severity of effects with time along with the considerable similarities of effects across the species tested and the observation that the vast majority of the effects observed are related to local irritation and corrosive effects, EPA concludes that an additional UF for extrapolation from subchronic toxicity study to a chronic exposure scenario is not needed.

v. There are no residual uncertainties identified in the exposure databases. The food and drinking water assessment is not likely to underestimate exposure to any subpopulation, including those comprised of infants and children. The food exposure assessments are considered to be highly conservative as they are based on the use of the highest tolerance level from the surrogate pesticides for every food and 100 percent crop treated is assumed for all crops. EPA also made conservative (protective) assumptions in the ground and surface water modeling used to assess exposure to alkyl amine polyalkoxylates in drinking water. EPA used similarly conservative assumptions to assess postapplication exposure of children as well as incidental oral exposure of toddlers. These assessments will not underestimate the exposure and risks posed by alkyl amine polyalkoxylates.

E. Aggregate Risks and Determination of Safety

EPA determines whether acute and chronic pesticide exposures are safe by comparing aggregate exposure estimates to the aPAD and cPAD. The aPAD and cPAD represent the highest safe exposures, taking into account all appropriate SFs. EPA calculates the aPAD and cPAD by dividing the POD by all applicable UFs. For linear cancer risks, EPA calculates the probability of additional cancer cases given the estimated aggregate exposure. Short-, intermediate-, and chronic-term risks are evaluated by comparing the estimated aggregate food, water, and residential exposure to the POD to ensure that the MOE called for by the product of all applicable UFs is not exceeded.

In conducting this aggregate risk assessment, the Agency has incorporated the petitioner's requested use limitations of alkyl amine polyalkoxylates as inert ingredients in pesticide product formulations into its exposure assessment. Specifically the petition includes a use limitation of alkyl amine polyalkoxylates at not more than 10 percent by weight in fungicide and insecticide formulations and at no more than 25 percent in herbicide formulations.

1. Acute risk. An acute aggregate risk assessment takes into account exposure estimates from acute dietary consumption of food and drinking water. Using the exposure assumptions discussed in this unit for acute exposure, and the use limitations of not more than 10 percent by weight in fungicide and insecticide formulations and at no more than 25 percent in herbicide formulations, the acute dietary exposure from food and water to alkyl amine polyalkoxylates at the 95th percentile for food and drinking water is 16 percent of the aPAD for the U.S. population and 44 percent of the aPAD for children 1 to 2 years old, the population group receiving the greatest exposure.

2. Chronic risk. A chronic aggregate risk assessment takes into account exposure estimates from chronic dietary consumption of food and drinking water Using the exposure assumptions discussed in this unit for chronic exposure, and the use limitations of not more than 10 percent by weight in fungicide and insecticide formulations and at no more than 25 percent in herbicide formulations, the chronic dietary exposure from food and water to alkyl amine polyalkoxylates is 27 percent of the cPAD for the U.S. population and 85 percent of the cPAD for children 1 to 2 years old, the most highly exposed population subgroup.

3. Short-term risk. Short-term aggregate exposure takes into account short-term residential exposure plus chronic exposure to food and water (considered to be a background exposure level).

Alkyl amine polyalkoxylates are used as inert ingredients in pesticide products that are currently registered for uses that could result in short-term residential exposure and the Agency has determined that it is appropriate to aggregate chronic exposure through food and water with short-term residential exposures to alkyl amine polyalkoxylates.

Using the exposure assumptions described in this unit for short-term exposures, EPA has concluded the combined short-term food, water, and residential exposures aggregated result in aggregate MOEs of 156 and 172, for adult males and females respectively, for a combined high end dermal and inhalation handler exposure with a high end post application dermal exposure and an aggregate MOE of 90 for children for a combined turf dermal exposure with hand-to-mouth exposure. While the MOE for short-term aggregate exposure for children is slightly below 100, EPA does not consider this MOE to represent a risk of concern for the following reasons.

• The hazard assessment for the alkyl amine polyalkoxylates is conservative. The PODs used to calculate aggregate risks for alkyl amine polyalkoxylates were based on the most toxic surrogate chemical. The alkyl amine polyalkoxylates are actually a mixture of compounds, so it is likely that the POD is a conservative assessment of toxicity.

• The Agency traditionally considers a level of concern (LOC) for these risk assessments to be for an MOE of 100 based on the standard 10x inter- and 10x intraspecies extrapolation safety factors. However, for alkyl amine polyalkoxylates, the primary toxic effect seen is related to the surfactants' inherent function to disrupt cell membranes resulting in irritating properties to tissues. Given that a significant difference between species for this type of effect is not expected, an LOC lower than an MOE of 100 may be appropriate for the non-dietary risk assessments.

• The dietary (food and water) portion of the aggregate risk assessment is a driver in this aggregate assessment and is considered to be highly conservative.

• The highest tolerance level from the surrogate pesticides for every food is used adjusted by the limitation in formulation for alkyl amine polyalkoxylates specified in the exemption. Estimating alkyl amine polyalkoxylates exposure based on the assumption that alkyl amine polyalkoxylates will be present at the maximum permitted amount in the pesticide products producing the highest possible residue in food is very conservative. EPA examined several of the pesticide products associated with the tolerance/commodity combination which are the driver of the risk assessment and found that these products contained between 1 and 2.25 percent surfactant, none of which was alkyl amine polyalkoxylates.

•100 percent crop treated is assumed for all crops (every food eaten by a person each day has tolerance-level residues).

•Many of these high tolerances are based on very short pre-harvest intervals where there is little time for degradation.

•No consideration was given to potential degradation between harvest and consumption (use of tolerance level residues which are typically one to two orders of magnitude higher than actual residues found in monitoring data).

•No consideration was given to potential reduction in residues from washing or cooking.

• The residential portion of the assessment is based on high-end application rates and assumes a dermal absorption of 5 percent which is a conservative, health protective value.

• Finally, the aggregate assessment assumes that a child would receive a high-end dietary exposure with high-end dermal and hand-to-mouth exposures concurrently.

4. Intermediate-term risk. Intermediate-term aggregate exposure takes into account intermediate-term residential exposure plus chronic exposure to food and water (considered to be a background exposure level).

Alkyl amine polyalkoxylates are used as inert ingredients in pesticide products that are currently registered for uses that could result in intermediate-term residential exposure and the Agency has determined that it is appropriate to aggregate chronic exposure through food and water with intermediate-term residential exposures to alkyl amine polyalkoxylates.

Using the exposure assumptions described in this unit for short-term exposures, EPA has concluded the combined short-term food, water, and residential exposures aggregated result in aggregate MOEs of 156 and 172, for adult males and females respectively, for a combined high end dermal and inhalation handler exposure with a high end post application dermal exposure and an MOE of 102 for children for a combined high end dermal exposure with hand-to-mouth exposure.

5. Determination of safety. Based on these risk assessments, EPA concludes that there is a reasonable certainty that no harm will result to the general population, or to infants and children from aggregate exposure to residues of alkyl amine polyalkoxylates.

IV. Other Considerations

A. Analytical Enforcement Methodology

An analytical method is not required for enforcement purposes since the Agency is establishing an exemption from the requirement of a tolerance without any numerical limitation.

B. International Residue Limits

The Agency is not aware of any country requiring a tolerance for alkyl amine polyalkoxylates nor have any CODEX Maximum Residue Levels been established for any food crops at this time.

V. Conclusion

Therefore, an exemption from the requirement of a tolerance is established for residues of alkyl amine polyalkoxylates when used as an inert ingredient in pesticide formulations applied to growing crops or to animals.

VI. Statutory and Executive Order Reviews

This final rule establishes tolerances under section 408(d) of FFDCA in response to a petition submitted to the Agency. The Office of Management and Budget (OMB) has exempted these types of actions from review under Executive Order 12866, entitled Regulatory Planning and Review (58 FR 51735, October 4, 1993). Because this final rule has been exempted from review under Executive Order 12866, this final rule is not subject to Executive Order 13211, entitled Actions Concerning Regulations That Significantly Affect Energy Supply, Distribution, or Use (66 FR 28355, May 22, 2001) or Executive Order 13045, entitled Protection of Children from Environmental Health Risks and Safety Risks (62 FR 19885, April 23, 1997). This final rule does not contain any information collections subject to OMB approval under the Paperwork Reduction Act (PRA), 44 U.S.C. 3501 et seq., nor does it require any special considerations under Executive Order 12898, entitled Federal Actions to Address Environmental Justice in Minority Populations and Low-Income Populations (59 FR 7629, February 16, 1994).

Since tolerances and exemptions that are established on the basis of a petition under section 408(d) of FFDCA, such as the tolerance in this final rule, do not require the issuance of a proposed rule, the requirements of the Regulatory Flexibility Act (RFA) (5 U.S.C. 601 et seq.) do not apply.

This final rule directly regulates growers, food processors, food handlers, and food retailers, not States or tribes, nor does this action alter the relationships or distribution of power and responsibilities established by Congress in the preemption provisions of section 408(n)(4) of FFDCA. As such, the Agency has determined that this action will not have a substantial direct effect on States or tribal governments, on the relationship between the national government and the States or tribal governments, or on the distribution of power and responsibilities among the various levels of government or between the Federal Government and Indian tribes. Thus, the Agency has determined that Executive Order 13132, entitled Federalism (64 FR 43255, August 10, 1999) and Executive Order 13175, entitled Consultation and Coordination with Indian Tribal Governments (65 FR 67249, November 9, 2000) do not apply to this final rule. In addition, this final rule does not impose any enforceable duty or contain any unfunded mandate as described under Title II of the Unfunded Mandates Reform Act of 1995 (UMRA) (Public Law 104-4).

This action does not involve any technical standards that would require Agency consideration of voluntary consensus standards pursuant to section 12(d) of the National Technology Transfer and Advancement Act of 1995 (NTTAA), Public Law 104-113, section 12(d) (15 U.S.C. 272 note).

VII. Congressional Review Act

The Congressional Review Act, 5 U.S.C. 801 et seq., generally provides that before a rule may take effect, the agency promulgating the rule must submit a rule report to each House of the Congress and to the Comptroller General of the United States. EPA will submit a report containing this rule and other required information to the U.S. Senate, the U.S. House of Representatives, and the Comptroller General of the United States prior to publication of this final rule in the Federal Register. This final rule is not a “major rule” as defined by 5 U.S.C. 804(2).

List of Subjects in 40 CFR Part 180

Environmental protection, Administrative practice and procedure, Agricultural commodities, Pesticides and pests, Reporting and recordkeeping requirements.

Dated: June 2, 2009.
Lois Rossi,
Director, Registration Division, Office of Pesticide Programs.

Therefore, 40 CFR chapter I is amended as follows:

PART 180—[AMENDED]

1. The authority citation for part 180 continues to read as follows:

Authority: 21 U.S.C. 321(q), 346a and 371.

2. In § 180.920, the table is amended by adding alphabetically the new inert ingredients to read as follows:

§ 180.920 Inert ingredients used pre-harvest; exemptions from the requirement of a tolerance.

Inert Ingredients | Limits | Uses
* * * * * * *
N,N-Bis-α-ethyl-ω-hydroxypoly(oxy-1,2-ethanediyl) C8-C18 saturated and unsaturated alkylamines; the poly(oxy-1,2-ethanediyl) content is 2-60 moles (CAS Reg. Nos. 10213-78-2, 25307-17-9, 26635-92-7, 26635-93-8, 288259-52-9, 58253-49-9, 61790-82-7, 61791-14-8, 61791-24-0, 61791-26-2, 61791-31-9, 61791-44-4, 68155-33-9, 68155-39-5, 68155-40-8,70955-14-5, 73246-96-5) | Not to exceed 25% in herbicide formulations and 10% in insecticide and fungicide formulations | Surfactants, related adjuvants of surfactants
* * * * * * *
N,N-Bis-α-ethyl-ω-hydroxypoly(oxy-1,2-ethanediyl/oxy(methyl-1,2-ethanediyl) C8-C18 saturated and unsaturated alkylamines; the poly(oxy-1,2-ethanediyl/oxy(methyl-1,2-ethanediyl) content is 2-60 moles (CAS Reg. Nos. 68213-26-3, 68153-97-9, 75601-76-2) | Not to exceed 25% in herbicide formulations and 10% in insecticide and fungicide formulations | Surfactants, related adjuvants of surfactants
* * * * * * *

3. In § 180.930, the table is amended by adding alphabetically new entries of inert ingredients to read as follows:

§ 180.930 Inert ingredients applied to animals; exemptions from the requirement of a tolerance.

Inert Ingredients | Limits | Uses
* * * * * * *
N,N-Bis-α-ethyl-ω-hydroxypoly(oxy-1,2-ethanediyl) C8-C18 saturated and unsaturated alkylamines; the poly(oxy-1,2-ethanediyl) content is 2-60 moles (CAS Reg. Nos. 10213-78-2, 25307-17-9, 26635-92-7, 26635-93-8, 288259-52-9, 58253-49-9, 61790-82-7, 61791-14-8, 61791-24-0, 61791-26-2, 61791-31-9, 61791-44-4, 68155-33-9, 68155-39-5, 68155-40-8,70955-14-5, 73246-96-5) | Not to exceed 25% in herbicide formulations and 10% in insecticide and fungicide formulations | Surfactants, related adjuvants of surfactants
* * * * * * *
N,N-Bis-α-ethyl-ω-hydroxypoly(oxy-1,2-ethanediyl/oxy(methyl-1,2-ethanediyl) C8-C18 saturated and unsaturated alkylamines; the poly(oxy-1,2-ethanediyl/oxy(methyl-1,2-ethanediyl) content is 2-60 moles (CAS Reg. Nos. 68213-26-3, 68153-97-9, 75601-76-2) | Not to exceed 25% in herbicide formulations and 10% in insecticide and fungicide formulations | Surfactants, related adjuvants of surfactants
* * * * * * *

[FR Doc. E9-14113 Filed 6-16-09; 8:45 am]

BILLING CODE 6560-50-S